DEPARTMENT OF HOUSING AND URBAN DEVELOPMENT

[Docket No. FR-5828-N-27]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301)-443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; AIR FORCE: Mr. Robert E. Moriarty, P.E., AFCEC/CI, 2261 Hughes Avenue, Ste. 155, JBSA Lackland TX 78236-9853; COAST GUARD: Commandant, United States Coast Guard, Attn: Jennifer Stomber, 2703 Martin Luther King Jr. Avenue SE., Stop 7741, Washington, DC 20593-7714; (202) 475-5609; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; INTERIOR: Mr. Michael Wright, Acquisition & Property Management, Department of the Interior, 3960 N. 56th Ave. #104, Hollywood, FL 33021; (443) 223-4639; NASA: Mr. Frank T. Bellinger, Facilities Engineering Division, National Aeronautics & Space Administration, Code JX, Washington, DC 20546, (202) 358-1124; NAVY: Mr. Steve Matteo, Department of the Navy, Asset Management; Division, Naval Facilities Engineering Command, Washington Navy Yard, 1330 Patterson Ave. SW., Suite 1000, Washington, DC 20374; (202) 685-9426 (These are not toll-free numbers).

Dated: June 25, 2015.
Juanita Perry,
SNAPS Specialist/Title V Lead, Office of Special Needs Assistance Programs.

TITLE V, FEDERAL SURPLUS PROPERTY PROGRAM FEDERAL REGISTER REPORT FOR 07/02/2015

Suitable/Available Properties

Building

Connecticut

Tract #288-02

Trinity Episcopal Bldg.

143 West Cornwall Rd.

West Cornwall CT 06796

Landholding Agency: Interior

Property Number: 61201520008

Status: Excess

Comments: off-site removal; only; 600 sq. ft.; extremely difficult to relocate due to type/location; good conditions; 1,500 ft. from nearest road; w/in wooded area; contact Interior for more information.

Hawaii

2 Building

Marine Corps Base Hawaii Kaneohe Bay

Kaneohe HI 96863

Landholding Agency: Navy

Property Number: 77201520020

Status: Excess

Directions: Building: 1287 (260 sq. ft.); 1288 (704 sq. ft.)

Comments: off-site removal; 50+ yrs. old; vehicle grease rack & loading ramp; severely deteriorated; contact Navy for more information.

Kentucky

644500B001 MWA Admin Building;

ARS; 230 Bennett Lane

Bowling Green KY 42104

Landholding Agency: Agriculture

Property Number: 15201520030

Status: Excess

Directions: RPUID; 2391054320 98400/00

Comments: installation/Site: 98400/00; Off-site removal; 11+ yrs. old; 470 sq. ft.; office; building is occupied through May 2015; contact Agriculture for more information.

644500B002 MWA Office/Lab

230 Bennett Lane

Bowling Green KY 42104

Landholding Agency: Agriculture

Property Number: 15201520031

Status: Excess

Directions: RPUD: 2392054320 98400/100

Comments: off-site removal; 11+ yrs. old; 2,100 sq. ft.; laboratory; contact Agriculture for more information.

644500B003 MWA Office/Lab

2300 Bennett Lane

Bowling Green KY 42104

Landholding Agency: Agriculture

Property Number: 15201520032

Status: Excess

Directions: RPUID: 2393054320 98400/00

Comments: off-site removal; 11+ yrs. old; 2,100 sq. ft.; may be difficult to move; lab/office; contact Agriculture for more information.

Mississippi

Facility #457—Mainteinance & Repair Facility

Naval Construction Battalion Center

Gulfport MS 39501

Landholding Agency: Navy

Property Number: 77201520021

Status: Unutilized

Comments: off-site removal only; 8.25+ yrs. old; 928 sq. ft.; 30+ mos. vacant; maintenance; exceeded its useful life; no future agency need; contact Navy for more information.

New Hampshire

Tract #198-15

Appalachian National Scenic Trail

Etna NH 03755

Landholding Agency: Interior

Property Number: 61201520006

Status: Excess

Directions: Cummingham House (975 sq. ft.); Garage (900 sq. ft.)

Comments: off-site removal only; relocation may be difficult due to type/size; structurally in good conditions; roof in fair conditions; deck unstable; potential lead/mold/asbestos; contact Interior for more info.

North Carolina

SAW PORES-26368, Communication

2499 Reservoir Road

Wilkesboro NC 28697

Landholding Agency: COE

Property Number: 31201520008

Status: Unutilized

Comments: 45+ yrs. old; 144 sq. ft.; poor conditions; no future agency need; contact COE for more information.

Pennsylvania

Tract #01-102

Flight 93 National Memorial

Stoystown PA 15563

Landholding Agency: Interior

Property Number: 61201520005

Status: Excess

Directions: Warehouse/Maintenance (4,000 sq. ft.); Knarly Storage (1,500 sq. ft.)

Comments: off-site removal only; relocation may be difficult due to size/type/conditions; roof, interior floors, & walls need repair; lead/mold; contact Interior for more information.

Washington

Beth Lake Comfort Station

1303.005031

Beth Lake Campground

Chesaw WA 98844

Landholding Agency: Agriculture

Property Number: 15201520029

Status: Unutilized

Directions: 0325-0765300

Comments: off-site removal; 50+ yrs.; old; 900 sq. ft.; toilet; 24+ mos. Vacant; not needs replacing; no future agency need; contact Agriculture for more information.

8 Lower Ct.

6JC18

Curlew WA 99118

Landholding Agency: Agriculture

Property Number: 15201520033

Status: Unutilized

Comments: off-site removal only; no future agency need; 1,045 sq. ft.; mobile home; very poor conditions; repairs needed; contact Agriculture for more information.

6 Lower Ct.

6JC16

Curlew WA 99118

Landholding Agency: Agriculture

Property Number: 15201520034

Status: Unutilized

Comments: off-site removal only; no future agency need; 1,045 sq. ft.; 2+ months vacant; poor conditions; contact Agriculture for more information.

Unsuitable Properties

Building

California

Building 99,

Naval Base Coronado

P.O. Box 357040

San Diego CA 92135

Landholding Agency: Navy

Property Number: 77201520019

Status: Underutilized

Comments: Flammable/explosive materials are located on adjacent industrial; commercial, or Federal facility.

Reasons: Within 2000 ft. of flammable or explosive material

Connecticut

Building 10011

100 Nicholson Road

East Granby CT 06026

Landholding Agency: Air Force

Property Number: 18201520028

Status: Excess

Comments: public access denied and no alternative method to gain access without compromising national security; property located within an airport runway clear zone or military airfield.

Reasons: Secured Area; Within airport runway clear zone

Building 10012

100 Nicholson Road

East Granby CT 06026

Landholding Agency: Air Force

Property Number: 18201520029

Status: Excess

Comments: public access denied and no alternative method to gain access without compromising national security.

Reasons: Secured Area

Florida

7 Buildings

Kennedy Space Center

Kennedy Space Center FL 32899

Landholding Agency: NASA

Property Number: 71201510018

Status: Unutilized

Directions: 169; 191; 223; 271; 790; 798; 207

Comments: public access denied and no alternative method to gain access without compromising national security.

Reasons: Secured Area

6 Buildings

Cape Canaveral Air Force Station

CCAFS FL 32925

Landholding Agency: NASA

Property Number: 71201520003

Status: Unutilized

Directions: 24 Admin; 21 Mobile; 77 Hangar; 18 Equip; 127 Storage; 27 Hydrogen Storage.

Comments: public access denied and no alternative method to gain access without compromising national security.

Reasons: Secured Area

6 Buildings

Kennedy Space Center

Kennedy Space Center FL 32899

Landholding Agency: NASA

Property Number: 71201520004

Status: Unutilized

Directions: 798 Classroom; 207 Disposal Office; 223 Storage Shed; 191 Drum Storage; 169 Contractor Support; 271 Ordnance Lab

Comments: public access denied and no alternative method to gain access without compromising national security.

Reasons: Secured Area

790—Temporary Building #35

J7-0243A Perimeter Road, LC39B

Kennedy Space Center FL 32899

Landholding Agency: NASA

Property Number: 71201520005

Status: Unutilized

Comments: public access denied and no alternative method to gain access without compromising national security.

Reasons: Secured Area

2 Buildings

Cape Canaveral Air Force Station

Cape Canaveral AF FL 32925

Landholding Agency: NASA

Property Number: 71201520006

Status: Unutilized

Directions: E & O Building; Electrical Storage Building

Comments: public access denied and no alternative method to gain access without compromising national security.

Reasons: Secured Area

5 Buildings

Kennedy Space Center

Kennedy Space Center FL 32899

Landholding Agency: NASA

Property Number: 71201520007

Status: Unutilized

Directions: Rechlorination Bldg.; Parachute Storage; Equipment Bldg.; Mission support; Locomotive Storage

Comments: public access denied and no alternative method to gain access without compromising national security.

Reasons: Comments

Helicopter Interdiction

Tactical Squadron

13520 Aerospace Way

Jacksonville FL 32221

Landholding Agency: Coast Guard

Property Number: 88201520006

Status: Unutilized.

Comments: public access denied and no alternative to gain access w/out compromising national security; documented deficiencies: roof is collapsing; clear threat to physical safety.

Reasons: Extensive deterioration; Secured Area

Guam

Building 21000

Anderson Air Force Base

Anderson Air Force Ba GU 96543

Landholding Agency: Air Force

Property Number: 18201520031

Status: Excess

Comments: public access denied and no alternative method to gain access without compromising national security.

Reasons: Secured Area

Iowa

#270—Jet Fuels Operations Facility

3270 Air Cobra Drive

Des Moines IA 50321

Landholding Agency: Air Force

Property Number: 18201520030

Status: Unutilized

Comments: public access denied and no alternative method to gain access without compromising national security.

Reasons: Secured Area; Within airport runway clear zone

Maine

Tract #115-02

Appalachian National Scenic Trail

Andover ME 04270

Landholding Agency: Interior

Property Number: 61201520007

Status: Excess

Directions: International Paper Cabin #2; Outbuilding

Comments: documented deficiencies: roof & foundation completely unstable; any attempt to relocate will result in collapse of property; clear threat to personal physical safety.

Reasons: Extensive deterioration

Montana

B1302 Graham/Johnson/Roberts/

Clack Cabin

62 Lake McDonald Lodge Loop

West Glacler MT 59936

Landholding Agency: Interior

Property Number: 61201520009

Status: Unutilized

Comments: property located within floodway which has not been clear zone or military airfield.

Reasons: Floodway

North Carolina

3 Buildings

U.S. Coast Guard Station Hobucken

Hobucken NC 28537

Landholding Agency: Coast Guard

Property Number: 88201520002

Status: Excess

Comments: public access denied and no alternative method to gain access without compromising national security.

Reasons: Secured Area

Texas

U.S.C.G. Station Port O'Connor

2307 W. Maple Street #A

Port O'Connor TX 77982

Landholding Agency: Coast Guard

Property Number: 88201520005

Status: Unutilized

Directions: ATON Storage Bldg.; ATON BATT Storage

Comments: public access denied and no alternative method to gain access without compromising national security.

Reasons: Secured Area

Virginia

2 Building

Naval Station Norfolk

Norfolk VA 23511

Landholding Agency: Navy

Property Number: 77201520018

Status: Excess

Directions: Facility M110 & M48

Comments: public access denied and no alternative method to gain access without compromising national security.

Reasons: Secured Area

U.S. Coast Cape Henry

Light station

583 Atlantic Avenue

Virginia Beach VA 23451

Landholding Agency: Coast Guard

Property Number: 88201520003

Status: Excess

Directions: Storage Shed (OU1) (RPUID #16806)

Comments: public access denied and no alternative method to gain access without compromising national security.

Reasons: Secured Area

U.S. Coast Cape Henry

Light station

583 Atlantic Avenue

Virginia Beach VA 23451

Landholding Agency: Coast Guard

Property Number: 88201520004

Status: Excess

Directions: (OU3)RPUID #16808

Comments: public access denied and no alternative method to gain access without compromising national security.

Reasons: Secured Area

Wyoming

Acid Pond Parcel

Spook Wyoming Site

N. of Glenrock WY 82633

Landholding Agency: GSA

Property Number: 54201520017

Status: Surplus

GSA Number: 7-B-WY-0558-AA

Directions: Disposal Agency: GSA; Landholding Agency: Energy; previously reported property under HUD # 41201420003 as unsuitable; published 7/11/2014

Comments: landlocked and can only be reached by crossing private property and there is no established right or means of entry.

Reasons: Not accessible by road

Land

New York

Parcel

7-AFRL

Rome NY 13441

Landholding Agency: GSA

Property Number: 54201520020

Status: Excess

GSA Number: 1-D-NY-0992

Directions: Landholding Agency: Air Force; Disposal Agency: GSA; previously reported by Air Force on 09/17/2013—HUD determination: unsuitable

Comments: property located within military runway clear zone/airfield.

Reasons: Within airport runway clear zone

[FR Doc. 2015-16043 Filed 7-1-15; 8:45 am]

BILLING CODE 4210-67-P